FEDERAL COMMUNICATIONS COMMISSION

[IB Docket No. 16-185; DA 21-898; FRS 40705]

Informal Working Group 3 and Informal Working Group 4 of the World Radiocommunication Conference Advisory Committee Revise Their Meeting Schedules

AGENCY: Federal Communications Commission.

ACTION: Notice.

SUMMARY: This notice advises interested persons that Informal Working Group 3 (IWG-3) and Informal Working Group 4 (IWG-4) of the 2023 World Radiocommunication Conference Advisory Committee (WRC-23 Advisory Committee) have scheduled meetings as set forth below. The meetings are open to the public.

DATES: IWG-4: Wednesday, September 1, 2021 (11:00 a.m.-1:00 p.m. EDT); IWG-3: Wednesday, September 1, 2021 (1:00 p.m.-3:00 p.m. EDT).

ADDRESSES: The meetings will be held virtually.

FOR FURTHER INFORMATION CONTACT: Dante Ibarra, Designated Federal Official, World Radiocommunication Conference Advisory Committee, FCC International Bureau, Global Strategy and Negotiation Division, at Dante.Ibarra@fcc.gov, (202) 418-0610 or WRC-23@fcc.gov.

SUPPLEMENTARY INFORMATION: The FCC established the Advisory Committee to provide advice, technical support and recommendations relating to the preparation of United States proposals and positions for the 2023 World Radiocommunication Conference (WRC-23).

In accordance with the Federal Advisory Committee Act, Public Law 92-463, as amended, this notice advises interested persons of the IWG-3 and IWG-4 of the WRC-23 Advisory Committee scheduled meetings. The Commission's WRC-23 website (www.fcc.gov/wrc-23) contains the latest information on all scheduled meetings, meeting agendas, and WRC-23 Advisory Committee matters.

The revised schedule of IWG-3 and IWG-4 meetings are as follows:

WRC-23 Advisory Committee

Schedule of Meetings of Informal Working Groups 3 and 4

Informal Working Group 3: Space Services

Contacts

Chair—Zachary Rosenbaum, zachary.rosenbaum@ses.com, telephone: (814) 233-7373

Vice Chair—Vacant

FCC Representatives

Clay DeCell, clay.decell@fcc.gov, telephone: (202) 418-0803

Kathyrn Medley, kathyrn.medley@fcc.gov, telephone: (202) 418-1211

Eric Grodsky, eric.grodsky@fcc.gov, telephone: (202) 418-0563

Dante Ibarra, dante.ibarra@fcc.gov, telephone: (202) 418-0610

IWG-3—Meeting

Date: Wednesday, September 1, 2021

Time: 1:00 p.m.-3:00 p.m. EDT

WebEx meeting number (access code): 199 562 2904

WebEx meeting password: qPdpJJJR232

Join by phone: +1-415-527-5035 US Toll

Informal Working Group 4: Regulatory Issues

Contacts

Chair - David Goldman, david.goldman@spacex.com, telephone: (202) 649-2641

Vice Chair—Giselle Creeser, giselle.creeser@intelsat.com, telephone: (703) 559-7851

FCC Representatives

Dante Ibarra, dante.ibarra@fcc.gov, telephone: (202) 418-0610

Clay DeCell, clay.decell@fcc.gov, telephone: (202) 418-0803

IWG-4—Meeting

Date: Wednesday, September 1, 2021

Time: 11:00 a.m.-1:00 p.m. EDT

WebEx meeting number (access code): 199 742 9498

WebEx meeting password: UdrMTgz7m53

Join by phone: +1-415-527-5035 US Toll

Federal Communications Commission.
Troy Tanner,
Deputy Chief, International Bureau.

[FR Doc. 2021-16353 Filed 7-30-21; 8:45 am]

BILLING CODE 6712-01-P